DEPARTMENT OF THE INTERIOR

Bureau of Indian Affairs

Water Delivery and Electric Service Data for the Operation of Irrigation and Power Projects and Systems: Proposed Information Collection

AGENCY: Bureau of Indian Affairs, Interior.

ACTION: Notice of Submission to the Office of Management and Budget.

SUMMARY: As required by the Paperwork Reduction Act, the Bureau of Indian Affairs (BIA) is submitting the following information collections to the Office of Management and Budget for renewal: (1) Electrical Service Application, 25 CFR 175, OMB Control Number 1076-0021; and (2) Water Request, 25 CFR 171, OMB Control Number 1076-0141. Current approvals for the collections expire August 31, 2009.

DATES: Submit comments on or before September 30, 2009.

ADDRESSES: Submit comments to the Office of Information and Regulatory Affairs, Office of Management and Budget, Attention: Department of the Interior Desk Officer, by facsimile at (202) 395-5806 or via e-mail to OIRA_Docket@omb.eop.gov. Also, please send a copy of your comments to: John Anevski, Chief, Division of Irrigation, Power and Safety of Dams, Office of Trust Services, Mail Stop 4655-MIB, 1849 C Street, NW., Washington, DC 20240; e-mail: john.anevski@bia.gov.

FOR FURTHER INFORMATION CONTACT: John Anevski, Chief, Division of Irrigation, Power and Safety of Dams, telephone: (202) 208-5480, e-mail: john.anevski@bia.gov.

SUPPLEMENTARY INFORMATION:

I. Abstract

The BIA owns, operates, and maintains three electric power utilities that provide a service to the end user. The BIA also owns, operates, and maintains 15 irrigation projects that provide a service to the end user. To be able to properly bill for the services provided, the BIA must collect customer information to identify the individual responsible for repaying the government the costs of delivering the service, and billing for those costs. Additional information necessary for providing the service is the location of the service delivery. The Debt Collection Improvement Act of 1996 (DCIA) requires that certain information be collected from individuals and businesses doing business with the government. This information includes the taxpayer identification number for possible future use to recover delinquent debt. To implement the DCIA requirement to collect customer information, the BIA has included a section concerning the collection of information in its regulations governing its electrical power utilities (25 CFR 175) and in its regulations governing its irrigation projects (25 CFR 171). A request for comments on this information collection request appeared in the Federal Register on May 19, 2009 (74 FR 23428). No comments were received regarding these information collections in response to the announcement.

II. Request for Comments

You are invited to send your comments on these information collections to the two locations listed in the ADDRESSES section. Your comments should address:

(a) The necessity of this information collection for the proper performance of the functions of the agency, including whether the information will have practical utility;

(b) The accuracy of the agency's estimate of the burden (hours and cost) of the collection of information, including the validity of the methodology and assumptions used;

(c) Ways we could enhance the quality, utility and clarity of the information to be collected; and

(d) Ways we could minimize the burden of the collection of the information on the respondents, such as through the use of automated collection techniques or other forms of information technology.

Please note that an agency may not sponsor or request, and an individual need not respond to, a collection of information unless it has a valid OMB Control Number.

OMB has up to 60 days after publication of this document in the Federal Register to make a decision on the submission for renewal, but may make the decision after 30 days. Therefore, to receive the best consideration of your comments, you should submit them during the first 30-day period.

Before including your address, phone number, e-mail address or other personally identifiable information, be advised that your entire comment—including your personally identifiable information—may be made public at any time. While you may request that we withhold your personally identifiable information, we cannot guarantee that we will be able to do so.

III. Data

A. Electrical Service Application

OMB Control Number: 1076-0021.

Title: Electrical Service Application 25 CFR 175.

Brief Description of Collection: In order for electric power consumers to be served, information is needed by the BIA to operate and maintain its electric power utilities and fulfill reporting requirements.

Sections 175.6 and 175.22 of 25 CFR part 175, Indian electric power utilities, specifies the information collection requirement. Power consumers must apply for electric service. The information to be collected includes: name; electric service location; and other operational information identified in the local administrative manuals. Collection of this information is currently authorized under an approval by OMB (OMB Control Number 1076-0021). All information is collected from each electric power consumer. Responses are required to receive or maintain a benefit.

Type of Review: Renewal.

Respondents: BIA electric power consumers—individuals and businesses.

Number of Respondents: 3,000 per year.

Number of Responses: 3,000 per year.

Estimated Time per Response: ½ hour.

Frequency of Response: Normally just once. Only need to re-do if requesting new electrical service elsewhere or if they have been disconnected for failure to pay their electric bill.

Total Annual Burden to Respondents: 1,500 hours.

B. Water Request

OMB Control Number: 1076-0141.

Title: Water Request 25 CFR 171.

Brief Description of Collection: In order for irrigators to receive water deliveries, information is needed by the BIA to operate and maintain its irrigation projects and fulfill reporting requirements. Section 171.140 and other sections cited in section 171.40 of 25 CFR part 171, [Irrigation] Operation and Maintenance, specifies the information collection requirement. Water users must apply for water delivery and for a number of other associated services, such as, subsidizing a farm unit, requesting leaching service, requesting water for domestic or stock purposes, building structures or fences in BIA rights-of-way, requesting payment plans on bills, establishing a carriage agreement with a third-party, negotiating irrigation incentive leases, and requesting an assessment waiver. The information to be collected includes: full legal name; correct mailing address; taxpayer identifying number; water delivery location; if subdividing a farm unit—a copy of the recorded plat or map of the subdivision where water will be delivered; the time and date of requested water delivery; duration of water delivery; amount of water delivered; rate of water flow; number of acres irrigated; crop statistics; any other agreements allowed under 25 CFR part 171; and any additional information required by the local project office that provides your service. Collection of this information is currently authorized under an approval by OMB (OMB Control Number 1076-0141). Information for water request is collected at least annually from each water user with a response required each time BIA provides irrigation water; the remaining information is collected only occasionally, upon request for the specific service. The information water users submit is for the purpose of obtaining or retaining a benefit, namely irrigation water.

Type of Review: Renewal.

Respondents: Waters users of the BIA irrigation project—individuals and businesses.

Number of Respondents: 6,539 per year.

Number of Responses: 27,075 per year.

Estimated Time per Response: A range of 18 minutes to 6 hours, depending on the specific service being requested.

Frequency of Response: On occasion throughout the irrigation season, averaging approximately 2 times per year.

Total Annual Burden to Respondents: 14,059 hours.

Dated: August 25, 2009.
Alvin Foster,
Deputy Chief Information Officer—Indian Affairs.

[FR Doc. E9-20974 Filed 8-28-09; 8:45 am]

BILLING CODE 4310-W7-P